DEPARTMENT OF HEALTH AND HUMAN SERVICES

Request for Information (RFI): Improving Efficiency, Effectiveness, Coordination, and Accountability of HIV and Viral Hepatitis Prevention, Care, and Treatment Programs

AGENCY: Office of HIV/AIDS and Infectious Disease Policy, Office of the Assistant Secretary for Health, Office of the Secretary, Department of Health and Human Services.

ACTION: Notice.

SUMMARY: Both the National HIV/AIDS Strategy (NHAS) and the National Viral Hepatitis Action Plan (NVHAP) expire in 2020. The Department of Health and Human Services (HHS) Office of HIV/AIDS and Infectious Disease Policy (OHAIDP), in collaboration with federal partners, is leading development of the next iterations of these two separate and distinct national strategies. To help inform the next iterations of the NHAS and NVHAP, HHS seeks input from external stakeholders for improving efficiency, effectiveness, coordination, and accountability of HIV and viral hepatitis prevention, care, treatment, and cure policies, services, and programs.

DATES: To be assured consideration, comments must be received at the address provided below, no later than 5:00 p.m. ET on March 11, 2019.

ADDRESSES: Electronic responses are strongly preferred and may be addressed to HepHIVStrategies@hhs.gov. Written responses should be addressed to: U.S. Department of Health and Human Services, Room L001, 330 C Street SW, Washington, DC 20024. Attention HIV/Viral Hepatitis RFI.

FOR FURTHER INFORMATION CONTACT: Nathan Fecik, MPH regarding HIV or Corinna Dan, RN, MPH regarding viral hepatitis, in the Office of HIV/AIDS and Infectious Disease Policy, (202) 795-7697.

SUPPLEMENTARY INFORMATION: The NHAS and NVHAP have served as roadmaps for the national response to HIV and viral hepatitis in the United States. They have been of great value in establishing and monitoring indicators of progress toward important national public health goals, setting expectations, identifying opportunities for stakeholder engagement across sectors, and improving transparency and accountability. As a nation, we have made significant progress toward achieving the goals for both strategies, but ongoing challenges and disparities remain.

The NHAS and the NVHAP were developed with input from nonfederal stakeholders who are committed to working toward shared national goals and aligning efforts across sectors. The strategies allow flexibility to adapt to: Scientific advances; changes in the needs of people with and at-risk for these infections; emerging threats to our progress toward eliminating HIV and viral hepatitis, such as the opioid crisis; and other factors including social determinants of health and stigma that affect the health of people with and at risk for these infections.

This request for information seeks public input on improving efficiency, effectiveness, coordination, and accountability of HIV and viral hepatitis prevention, care, treatment, and cure policies, services, and programs at all levels and for all types of stakeholders. The feedback received will inform the next edition of two separate strategies: (1) The National HIV/AIDS Strategy; and (2) the National Viral Hepatitis Action Plan. Please indicate the national strategy to which each comment applies. If submitting comments for both strategies please submit two separate responses. Topics of interest include, but are not limited to, the following:

(1a) What components of the NHAS do you think should be maintained? What changes should be made to the NHAS? This may include changes to the structure, goals, and indicators, key areas of focus and/or populations, and annual reporting processes by federal agencies. This may also include areas of the current strategy that should be scaled back or areas of the current strategy that should be expanded or scaled up.

(1b) What components of the NVHAP do you think should be maintained? What changes should be made to the NVHAP? This may include changes to the structure, goals, and indicators, key areas of focus and/or populations, and annual reporting processes by federal agencies. This may also include areas of the current strategy that should be scaled back or areas of the current strategy that should be expanded or scaled up.

(2a) Specific recommendations you think will improve the efficiency, effectiveness, accountability, and impact of the national response to HIV.

(2b) Specific recommendations you think will improve the efficiency, effectiveness, accountability, and impact of the national response to viral hepatitis.

(3a) What specific actions should the federal government and others take to improve the coordination of funding and delivery of HIV services?

(3b) What specific actions should the federal government and others take to improve the coordination of funding and delivery of viral hepatitis services?

(4a) What monitoring and evaluation strategies would further improve HIV prevention, care, and treatment?

(4b) What monitoring and evaluation strategies would further improve viral hepatitis prevention, care, and treatment?

Dated: January 29, 2019.
Tammy R. Beckham,
Director, Office of HIV/AIDS and Infectious Disease Policy.

[FR Doc. 2019-01695 Filed 2-7-19; 8:45 am]

BILLING CODE 4150-28-P